DEPARTMENT OF ENERGY

Federal Energy Regulatory Commission

Combined Notice of Filings #1

Take notice that the Commission received the following electric rate filings:

Docket Numbers: ER10-3063-001.

Applicants: Green Country Energy, LLC.

Description: Green Country Energy, LLC submits second supplement to December 21, 2012 Triennial Market Power Update for the Southwest Power Pool, Inc. Region.

Filed Date: 4/19/13.

Accession Number: 20130419-5225.

Comments Due: 5 p.m. ET 5/10/13.

Docket Numbers: ER12-1179-005.

Applicants: Southwest Power Pool, Inc.

Description: Integrated Marketplace Compliance Filing—Docket ER12-1179-002 to be effective 3/1/2014.

Filed Date: 4/19/13.

Accession Number: 20130419-5189.

Comments Due: 5 p.m. ET 5/10/13.

Docket Numbers: ER13-1315-000.

Applicants: Massachusetts Electric Company.

Description: Interconnection Agreement Between Massachusetts Electric Co. and Pepperell Hydro to be effective 6/19/2013.

Filed Date: 4/19/13.

Accession Number: 20130419-5220.

Comments Due: 5 p.m. ET 5/10/13.

Take notice that the Commission received the following open access transmission tariff filings:

Docket Numbers: OA07-44-007.

Applicants: El Paso Electric Company.

Description: El Paso Electric Company submits Report on Operational Penalty Distributions.

Filed Date: 4/18/13.

Accession Number: 20130418-5238.

Comments Due: 5 p.m. ET 5/9/13.

Take notice that the Commission received the following electric reliability filings:

Docket Numbers: RD13-8-000.

Applicants: North American Electric Reliability Corporation.

Description: Petition of the North American Electric Reliability Corporation for Approval of an Interpretation to Reliability Standards TPL-003-0a and TPL-004-0.

Filed Date: 4/12/13.

Accession Number: 20130412-5227.

Comments Due: 5 p.m. ET 5/13/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 22, 2013.
Nathaniel J. Davis, Sr.,
Deputy Secretary.

[FR Doc. 2013-10089 Filed 4-29-13; 8:45 am]

BILLING CODE 6717-01-P